ENVIRONMENTAL PROTECTION AGENCY

[FRL-9446-5]

Public Water System Supervision Program Revision for the State of Louisiana

AGENCY: United States Environmental Protection Agency (EPA).

ACTION: Notice of proposed approval.

SUMMARY: Notice is hereby given that the State of Louisiana is revising its approved Public Water System Supervision Program, by adopting new regulations for the Public Notification Rule, Filter Backwash Recycling Rule, Long Term 1 Enhanced Surface Water Treatment Rule, Radionuclides Rule, and the Revised Drinking Water Standard for Arsenic Rule, promulgated and published in the Federal Register at 72 FR 57782 on October 10, 2007. Louisiana has adopted the Public Notification Rule, Filter Backwash Recycling Rule, Long Term 1 Enhanced Surface Water Treatment Rule, Radionuclides Rule, and the Revised Drinking Water Standard for Arsenic Rule, to strengthen the protection of public health. EPA has determined that the proposed program revisions submitted by Louisiana for these revisions are no less stringent than the corresponding federal regulations. Therefore, EPA proposes to approve these program revisions.

DATES: All interested parties may request a public hearing. A request for a public hearing must be submitted by August 31, 2011 to the Regional Administrator at the EPA Region 6 address shown below. Frivolous or insubstantial requests for a hearing may be denied by the Regional Administrator. However, if a substantial request for a public hearing is made by August 31, 2011, a public hearing will be held. If no timely and appropriate request for a hearing is received and the Regional Administrator does not elect to hold a hearing on his own motion, this determination shall become final and effective on August 31, 2011. Any request for a public hearing shall include the following information: The name, address, and telephone number of the individual, organization, or other entity requesting a hearing; a brief statement of the requesting person's interest in the Regional Administrator's determination and a brief statement of the information that the requesting person intends to submit at such hearing; and the signature of the individual making the request or, if the request is made on behalf of an organization or other entity, the signature of a responsible official of the organization or other entity.

ADDRESSES: All documents relating to this determination are available for inspection between the hours of 8 a.m. and 4:30 p.m., Monday through Friday, at the following offices: DHH-OPH-CEHS Engineering Services, 628 N. Fourth Street, P.O. Box 4489, Baton Rouge, LA 70821; and the EPA Region 6, Drinking Water Section (6WQ-SD), 1445 Ross Avenue, Suite 1200, Dallas, Texas 75202.

FOR FURTHER INFORMATION CONTACT: Andy Waite, EPA Region 6, Drinking Water Section at the Dallas address given above or at telephone (214) 665-7332, or waite.andrew@epa.gov.

Authority: Section 1413 of the Safe Drinking Water Act, as amended (1996), and 40 CFR part 141 and 142 of the National Primary Drinking Water Regulations.

Dated: July 20, 2011
Al Armendariz,
Regional Administrator, Region 6.

[FR Doc. 2011-19396 Filed 7-29-11; 8:45 am]

BILLING CODE 6560-50-P